DEPARTMENT OF ENERGY

Federal Energy Regulatory Commission

[Docket Nos. ER15-861-000; EL15-53-000]

California Independent System Operator Corporation; Notice of Technical Conference

By order issued in this proceeding on March 16, 2015,¹ the Federal Energy Regulatory Commission (Commission) directed its staff to convene a technical conference to develop a record regarding issues related to imbalance energy price spikes experienced in PacifiCorp's balancing authority areas (BAAs) subsequent to PacifiCorp's full activation in the California Independent System Operator Corporation's (CAISO) Energy Imbalance Market (EIM), and to facilitate the development of a long-term solution. Consistent with the attached agenda, the technical conference will explore the circumstances identified in reports filed by CAISO and its Department of Market Monitoring (DMM) in Docket No. ER15-402-000 regarding the imbalance energy price spikes in PacifiCorp's BAAs and the status of CAISO and PacifiCorp efforts to improve the transitional issues identified in those reports. CAISO should come prepared to answer the questions laid out in the attached agenda. We invite DMM and PacifiCorp to also be prepared to answer questions.

¹ Cal. Indep. Sys. Operator Corp., 150 FERC ¶ 61,191 (2015).

The technical conference will be held on Thursday, April 9, 2015, from 10:00 a.m. to 5:00 p.m. (EST), at the offices of the Federal Energy Regulatory Commission, 888 First Street NE., Washington, DC 20426.

Attached to this notice is an agenda for the technical conference.

The technical conference will be open for the public to attend, and those interested in attending are encouraged to register by close of business, April 1, 2015. You may register at the following Web page: https://www.ferc.gov/whats-new/registration/04-09-15-form.asp.

An audio listen-only line will be provided. If you need a listen-only line, please email Sarah McKinley (Sarah.McKinley@ferc.gov) by 5:00 p.m. (EST) on Friday, April 3, with your name, email, and phone number, in order to receive the call-in information the day before the conference. Please use the following text for the subject line, “ER15-861 listen-only line registration.”

This conference will also be transcribed. Transcripts of the technical conference will be available for a fee from Ace-Federal Reporters, Inc. (202) 347-3700.

Commission conferences are accessible under section 508 of the Rehabilitation Act of 1973. For accessibility accommodations, please send an email to accessibility@ferc.gov or call toll free 1 (866) 208-3372 (voice) or (202) 208-1659 (TTY), or send a FAX to (202) 208-2106 with the required accommodations.

FOR FURTHER INFORMATION PLEASE CONTACT: Sarah McKinley, Office of External Affairs, Federal Energy Regulatory Commission, 888 First Street NE., Washington, DC 20426, (202) 502-8368, sarah.mckinley@ferc.gov; Jennifer B. Shipley, Office of Energy Market Regulation, Federal Energy Regulatory Commission, 888 First Street NE., Washington, DC 20426, (202) 502-6822, jennifer.shipley@ferc.gov.

Dated: March 24, 2015.
Kimberly D. Bose,
Secretary.

[FR Doc. 2015-07204 Filed 3-27-15; 8:45 am]

BILLING CODE 6717-01-P